FEDERAL RESERVE SYSTEM

Privacy Act of 1974; System of Records

Correction

In notice document 2022-17379 appearing on pages 49836 through 49838 in the issue of Friday, August 12, 2022, make the following corrections:

1. On page 49836, in the second column, first full paragraph, lines ten and eleven, under FOR FURTHER INFORMATION CONTACT, change “582aishvid.b.husband@frb.gov” to read “david.b.husband@frb.gov.”

2. On page 49837, in the second column, fifth paragraph, line twenty-nine, under “System Manager(s),” change “586586aishaliali.d.sack@frb.gov” to read “vaishali.d.sack@frb.gov.”

3. On page 49838, in the third column, first paragraph, lines six and seven, under “Notification Procedures,” change “5 U.S.C. 5I(c).” to read “5 U.S.C. 552a(c).”

4. On page 49838, in the third column, second paragraph, lines ten through thirteen, under “Exemptions Promulgated for the System,” change the last three lines to read “5 U.S.C. 552a(c)(3), (d), (e)(1), (e)(4)(G), (H), and (I), and (f) of the Privacy Act pursuant to 5 U.S.C. 552a(k)(2).”

[FR Doc. C1-2022-17379 Filed 9-21-22; 8:45 am]

BILLING CODE 0099-10-P